DEPARTMENT OF ENERGY

Federal Energy Regulatory Commission

[Docket Nos. CP16-10-000; CP21-57-000; CP19-477-000]

Mountain Valley Pipeline, LLC; Notice of Request for Extension of Time

Take notice that on June 24, 2022, Mountain Valley Pipeline, LLC (Mountain Valley) requested that the Federal Energy Regulatory Commission (Commission) grant an extension of time, until October 13, 2026, to complete construction of the Mountain Valley Pipeline Project (Project) and place the Project facilities into service, as authorized in the October 13, 2017 Order Issuing Certificate.¹ On October 9, 2020, the Commission issued an order granting a two-year extension of time, until October 13, 2022, for Mountain Valley to complete construction of the Project and place the Project facilities into service.² On April 8, 2022, the Commission issued an order amending the Project certificate to permit Mountain Valley to: (1) change the crossing method for 183 waterbodies and wetlands; (2) slightly shift the permanent right-of-way at mileposts 0.70 and 230.8 to avoid one wetland and one waterbody, respectively; and (3) conduct 24-hour construction activities at eight trenchless crossings. The Commission conditioned the Amendment Order on Mountain Valley completing construction by the October 13, 2022 construction deadline.

¹ Mountain Valley Pipeline, LLC, 161 FERC ¶ 61,043 (2017), order on reh'g, 163 FERC ¶ 61,197 (2018) (“Certificate Order”), aff'd sub. nom., Appalachian Voices v. FERC, No. 17-1271, 2019 WL 847199 (D.C. Cir. Feb. 19, 2019). The Order required Mountain Valley to construct and place the facilities in service within three years of the date of the Order or October 13, 2020.

² Mountain Valley Pipeline, LLC, 173 FERC ¶ 61,026 (2020), petition for review pending sub nom. Sierra Club v. FERC, No. 20-1512 (D.C. Cir.) (oral argument held Apr. 7, 2022). On September 29, 2021, Mountain Valley filed a request for extension of time in Docket No. CP19-477-000 to align the in-service deadline for its already-constructed Greene Interconnect with that for the mainline Project. The Commission has not yet acted on that uncontested request. As part of the instant request, Mountain Valley is modifying the pending request in that docket for consistency.

Mountain Valley states that its request for an extension of time is due to the ongoing litigation and remand proceedings related to several permits and authorizations in the above identified dockets.

Mountain Valley states that it has shown good cause for the extension as Project construction is substantially complete and Mountain Valley is actively working to reinstate all required permits so that it can complete construction as expeditiously as possible. Mountain Valley avers it is currently obtaining all necessary permits, including updated environmental findings where applicable, that will be in place before Mountain Valley is permitted to complete construction of the Project. Mountain Valley states it has expended approximately $5.5 billion on the Project to date and the Project's total cost is targeted to be approximately $6.6 billion. Mountain Valley states its extension of time request is necessary to maintain its erosion and sedimentation control program. Finally, Mountain Valley states that the Project remains fully subscribed under binding long-term agreements. Accordingly, Mountain Valley requests an extension of the October 13, 2022 deadline until October 13, 2026, to complete construction of the Mountain Valley Pipeline Project and place the Project facilities into service.

This notice establishes a 15-calendar day intervention and comment period deadline. Any person wishing to comment on Mountain Valley's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on all of those extension requests that are uncontested.

³ Contested proceedings are those where an intervenor disputes any material issue of the filing. 18 CFR 385.2201(c)(1) (2019).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on July 14, 2022.

Dated: June 29, 2022.
Kimberly D. Bose,
Secretary.

[FR Doc. 2022-14332 Filed 7-5-22; 8:45 am]

BILLING CODE 6717-01-P